DEPARTMENT OF AGRICULTURE

Animal and Plant Health Inspection Service

[Docket No. APHIS-2023-0087]

Addition of Kosovo and Mozambique to the List of Regions Affected With Highly Pathogenic Avian Influenza

AGENCY: Animal and Plant Health Inspection Service, USDA.

ACTION: Notice.

SUMMARY: We are advising the public that we have added Kosovo and Mozambique to the list of regions that the Animal and Plant Health Inspection Service considers to be affected by highly pathogenic avian influenza (HPAI). These actions follow our imposition of HPAI-related restrictions on avian commodities originating from or transiting Kosovo or Mozambique, as a result of the confirmation of HPAI in these countries.

DATES: Kosovo and Mozambique were added to the list of regions APHIS considers to be affected with HPAI, effective respectively on September 29, 2023, and October 20, 2023.

FOR FURTHER INFORMATION CONTACT: For the Kosovo listing, contact Dr. Heather Sriranganathan, APHIS Veterinary Services, Regionalization Evaluation Services, 4700 River Road, Riverdale, MD 20737; phone (717) 818-3582; email: AskRegionalization@usda.gov.

For the Mozambique listing, contact Dr. La'Toya Lane, APHIS Veterinary Services, Regionalization Evaluation Services, 920 Main Campus Drive, Suite 300, Raleigh, NC 27606; phone: (301) 550-1671; email: AskRegionalization@usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 of the regulations contains requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. The Animal and Plant Health Inspection Service (APHIS) maintains a list of restricted regions it considers affected with HPAI of any subtype on the APHIS website at https://www.aphis.usda.gov/aphis/ourfocus/animalhealth/animal-and-animal-product-import-information/animal-health-status-of-regions.

APHIS receives notice of HPAI outbreaks from veterinary officials of the exporting country, from the World Organization for Animal Health (WOAH),¹ or from other sources the Administrator determines to be reliable.

¹ The World Organization for Animal Health internationally follows a British English spelling of “organisation” in its name; also, it was formerly the Office International des Epizooties, or OIE, but on May 28, 2022, the Organization announced that the acronym was changed from OIE to WOAH.

On August 21, 2023, APHIS became aware of a European Food Safety Authority document reporting outbreaks of HPAI in Kosovo in 2022. On September 25, 2023, the Kosovo Food and Veterinary Authority confirmed the detection of HPAI in 2021 and 2022. In response to these reports, on September 29, 2023, APHIS added Kosovo to the list of regions where HPAI exists or is considered to exist, in compliance with § 94.6(a)(2)(ii). On that same date, APHIS issued an import alert notifying stakeholders that APHIS imposed restrictions on the importation of poultry, commercial birds, ratites, avian hatching eggs, unprocessed avian products and byproducts, and certain fresh poultry commodities originating from or transiting Kosovo to mitigate risk of HPAI introduction in the United States.

On October 17, 2023, the veterinary authorities of Mozambique reported to the WOAH the occurrence of HPAI in that country. In response to that report, on October 20, 2023, after confirming that HPAI occurred in commercial birds and poultry, APHIS added Mozambique to the list of regions where HPAI exists or is considered to exist, in compliance with § 94.6(a)(2)(ii). On that same day, APHIS issued an import alert notifying stakeholders that APHIS imposed restrictions on the importation of poultry, commercial birds, ratites, avian hatching eggs, unprocessed avian products and byproducts, and certain fresh poultry commodities originating from or transiting Mozambique to mitigate risk of HPAI introduction into the United States.

With the publication of this notice, we are informing the public that we have added Kosovo to the list of regions APHIS considers affected with HPAI of any subtype, effective September 29, 2023; and Mozambique to the list of regions APHIS considers affected with HPAI of any subtype, effective October 20, 2023. This notice serves as an official record and public notification of these actions.

Authority: 7 U.S.C. 1633, 7701-7772, 7781-7786, and 8301-8317; 21 U.S.C. 136 and 136a; 31 U.S.C. 9701; 7 CFR 2.22, 2.80, and 371.4.

Done in Washington, DC, this 26th day of March 2024.
Michael Watson,
Administrator, Animal and Plant Health Inspection Service.

[FR Doc. 2024-06942 Filed 4-1-24; 8:45 am]

BILLING CODE 3410-34-P